DEPARTMENT OF DEFENSE

Department of the Army; Corps of Engineers

Intent To Prepare a Draft Environmental Impact Statement for Proposed Modifications to Kawaihae Deep Draft Harbor, Island of Hawaii, HI

AGENCY: Department of the Army, U.S. Army Corps of Engineers, DoD.

ACTION: Notice of intent.

SUMMARY: The U.S. Army Engineer District (Corps), Honolulu, in partnership with the State of Hawaii, Department of Transportation, Harbors Division, is proposing modifications to Kawaihae Deep Draft Harbor. Kawaihae Harbor is located on the west side of the island of Hawaii in the Kohala region. The completed project would enable vessels of greater capacity to utilize the harbor and reduce surge problems now being experienced within the harbor basin.

FOR FURTHER INFORMATION CONTACT: Warren Kanai, Project Manager, U.S. Army Engineer District, Honolulu, Attn: CEPOH-PP-C, Fort Shafter, HI 96858-5440. Phone: (808) 438-0881. E-mail: warren.s.kanai@usace.army.mil.

SUPPLEMENTARY INFORMATION: 1. The project may include the following items:

a. Deepening the harbor basin and entrance channel.

b. Deepening the harbor basin and entrance channel, in combination with lengthening the existing breakwater.

c. Constructing a new breakwater on the east side of the harbor entrance channel.

These features may be modified, or new features added as a result of the analyses to be performed as part of the feasibility investigation and Environmental Impact Statement (EIS) process.

2. Alternatives to be considered include “No Action” and various construction techniques.

3. In July 2001, the Corps completed a reconnaissance study on the harbor. The study stated that there is a growing demand for cargo to support the expanding economy in west Hawaii. The existing harbor's depth is limiting the use of larger bulk-cargo vessels. The harbor also experiences surge and oscillations in the basin which causes operational inefficiencies and higher transportation costs for harbor users.

4. A public scoping meeting will be held in October 2003. A public hearing will be held after publication of the draft EIS. Meeting dates, items and locations will be publicly announced. The draft EIS is expected to be available in June 2005.

Luz D. Ortiz,
Army Federal Register Liaison Officer.

[FR Doc. 03-13601 Filed 5-30-03; 8:45 am]

BILLING CODE 3710-NN-M